DEPARTMENT OF DEFENSE

Office of the Secretary

32 CFR Part 323

[Docket ID: DoD-2009-OS-0006]

Privacy Act; Implementation

AGENCY: Defense Logistics Agency, DoD.

ACTION: Final rule with request for comments; withdrawal.

SUMMARY: The Department of Defense is withdrawing the final rule published on October 29, 2009 (74 FR 55781-55782), which updated the Defense Logistics Agency Privacy Act Program Rules, 32 CFR part 323, by replacing the (k)(2) exemption with a (k)(5) exemption for their Defense Logistics Agency Criminal Incident Reporting System Records.

DATES: The final rule amending 32 CFR part 323 published on October 29, 2009 (74 FR 55781-55782) is withdrawn as of December 1, 2009.

FOR FURTHER INFORMATION CONTACT: Patricia Toppings, 703-696-5284.

Dated: November 23, 2009.
Patricia L. Toppings,
OSD Federal Register Liaison Officer, Department of Defense.

[FR Doc. E9-28527 Filed 11-30-09; 8:45 am]

BILLING CODE 5001-06-P